DEPARTMENT OF THE INTERIOR

Bureau of Safety and Environmental Enforcement

[Docket ID BSEE-2023-0013; EEEE500000 234E1700D2 ET1SF0000.EAQ000; OMB Control Number 1014-0034]

Agency Information Collection Activities; Renewable Energy and Alternate Uses of Existing Facilities on the Outer Continental Shelf

AGENCY: Bureau of Safety and Environmental Enforcement, Interior.

ACTION: Notice of information collection; request for comment.

SUMMARY: In accordance with the Paperwork Reduction Act (PRA) of 1995, the Bureau of Safety and Environmental Enforcement (BSEE) proposes to renew an information collection with revisions.

DATES: Interested persons are invited to submit comments on or before September 11, 2023.

ADDRESSES: Send your comments on this information collection request (ICR) by either of the following methods listed below:

• Electronically go to http://www.regulations.gov. In the Search box, enter BSEE-2023-0013 then click search. Follow the instructions to submit public comments and view all related materials. We will post all comments.

• Email nikki.mason@bsee.gov, fax (703) 787-1546, or mail or hand-carry comments to the Department of the Interior; Bureau of Safety and Environmental Enforcement; Regulations and Standards Branch; ATTN: Nikki Mason; 45600 Woodland Road, Sterling, VA 20166. Please reference OMB Control Number 1014-0034 in the subject line of your comments.

FOR FURTHER INFORMATION CONTACT: To request additional information about this ICR, contact Nikki Mason by email at nikki.mason@bsee.gov or by telephone at (703) 787-1607. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), all information collections require approval under the PRA. We may not conduct, or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: BSEE will use the information to oversee facility design, fabrication, installation, and safety management systems; ensure the safety of operations, including inspection programs and incident reporting and investigations; enforce compliance with all applicable safety, environmental, and other laws and regulations through enforcement actions (such as noncompliance notices, cessation orders, and certain lease suspensions); and oversee decommissioning activities. These responsibilities include enforcement provisions under the existing part 285, subpart D, various information submittal requirements under Subpart F, as well as provisions governing activities conducted under an approved plan, including the design, construction, operation, and decommissioning of facilities under subparts G, H, and I. The requirements for and standards of review regarding the Facility Design Report (FDR) and Facility Fabrication and Installation Report (FIR) are unchanged: the FDR and FIR will continue to be evaluated for consistency with the Construction and Operations Plan (COP) and applicable engineering standards. Decommissioning requirements related to rights-of-use and easement for alternate uses of existing OCS facilities (Alternate Use RUE) have also been transferred from the existing subpart J to part 285.

BSEE assumes the responsibility for ordering a lease or grant suspension when continued activities pose an imminent threat of serious or irreparable harm or damage to natural resources, life, property, the marine coastal, or human environment, or sites, structures, or objects of historical or archaeological significance. BSEE may also order a suspension when necessary to comply with a judicial decree. Under the rule, BSEE also assumes authority to issue cessation orders to address noncompliance on the part of the grantee or lessee.

The Department does not issue Suspensions for Alternate Use RUEs upon the grantee's request, but only by order. BOEM will retain authority to order suspensions required for National security, and BSEE will assume authority to order suspensions to address a threat of harm from continued operations. Either bureau may order a suspension when necessary to comply with a judicial decree. BSEE will order suspensions when operations are halted on the existing facility and BSEE determines continuation of the alternate use is unsafe or causes undue interference with the facility.

Part 285, subpart D, Lease and Grant Administration, includes the authority to issue notices of noncompliance (NONCs) and cessation orders, and to pursue civil penalties and recommend criminal penalties. BSEE assumes authority for oversight and enforcement of the design, construction, operation, and decommissioning phases of offshore wind development, as well as enforcement of requirements related to Alternate Use RUEs.

This ICR includes a new form:

Form BSEE-1835, Notification of Noncompliance (NONC).

BSEE will use the information to determine that respondents have corrected all Notifications of Noncompliance (NONCs) identified during inspections. Everything on the NONC form is filled out by a BSEE inspector/representative. The only thing industry does with this form is sign the document upon receipt and respond to BSEE when each NONC has been corrected. Dependent on the severity of the non-compliance identified by the BSEE inspector, the responses are assigned different intervals and are described in the form table titled Enforcement Timeline:

1—At Time of Inspection

14—Within 14 Days

30—Within 30 Days

50—Prior to Returning to Service/Operation

60—Prior to Next Scheduled Maintenance

70—During Next Scheduled Maintenance

80—Prior to Next scheduled Audit

90—During Next Scheduled Audit

Title of Collection: 30 CFR part 285, Renewable Energy and Alternate Uses of Existing Facilities on the Outer Continental Shelf.

OMB Control Number: 1014-0034.

Form Number: Form BSEE-1835, Notice(s) of Noncompliance.

Type of Review: Revision of a currently approved collection.

Respondents/Affected Public: Primary respondents comprise Federal OCS companies that submit unsolicited proposals or responses to Federal Register notices; or are lessees, designated operators, and ROW or RUE grant holders. Other potential respondents are companies or state and local governments that submit information or comments relative to alternative energy-related uses of the OCS; certified verification agents (CVAs); and surety or third-party guarantors.

Total Estimated Number of Annual Respondents: Currently there are approximately 47 Lessees in the OCS. Not all the potential respondents will submit information in any given year, and some may submit multiple times.

Total Estimated Number of Annual Responses: 103.

Estimated Completion Time per Response: Varies from 30 minutes to 6,000 hours, depending on activity.

Total Estimated Number of Annual Burden Hours: 8,908.

Respondent's Obligation: Responses are mandatory and are required to obtain or retain a benefit.

Frequency of Collection: generally occasional or annual.

Total Estimated Annual Nonhour Burden Cost: $1,908,000.

Burden Table
Citations in 30 CFR 285 | Reporting and recordkeeping requirement ¹ | Hour burden | Average number of annual responses | Annual burden hours
|  |  | Non-hour cost burdens
Subpart A—General Provisions
102; 105; 110 | These sections contain general references to submitting comments, requests, applications, plans, notices, reports, and/or supplemental information for BSEE approval—burdens covered under specific requirements.
103; 904 | Request general departures not specifically covered elsewhere in part 285 | .5 | 6 requests | 3
105(c) | Make oral requests or notifications and submit written follow up within 3 business days not specifically covered elsewhere in part 285 | 1 | 2 requests | 2
1016 | Request reconsideration and/or hearing. | Requirement not considered IC under 5 CFR 1320.3(h)(9). |  | 0
111(b)(3); (b)(5); (b)(6) | Within 30 days of receiving bill, submit processing fee payments for BSEE document or study preparation to process applications and other requests | .5 | 2 submissions | 1
|  |  | 2 payments × $4,000 = $8,000.
111(b)(2), (3) | Submit comments on proposed processing fee or request approval to perform or directly pay contractors for all or part of any document, study, or other activity, to reduce BSEE processing costs | 2 | 2 requests | 4
111(b)(3) | Perform, conduct, develop, etc., all or part of any document, study, or other activity; and provide results to BSEE to reduce BSEE processing fee. Pay processing fee for all or part of any document, study, or other activity, and provide results to BSEE to reduce BSEE processing costs | 6,000 | 1 submission | 6,000
|  |  | 1 contractor payment × $950,000 = $950,000.
111(b)(7) | Appeal BSEE estimated processing costs, decisions, or orders pursuant to 30 CFR 290 | Exempt under 5 CFR 1320.4(a)(2), (c). |  | 0
115 | Request approval to use later edition of a document incorporated by reference or alternative compliance | 1 | 1 request | 1
118 | Request appeal within 15 days of bid rejection, request reconsideration of bid decision or rejection | Requirement not considered IC under 5 CFR 1320.3(h)(9). |  | 0
Subpart B—Reserved
Subpart C—Reserved
Subpart D—Lease and Grant Administration
400; 401; 402 NONCs | These sections contain references to information submissions, approvals, requests, applications, plans, payments, etc., the burdens for which are covered elsewhere in part 285. |  |  | 0
401(b) | Take measures directed by BSEE in cessation order and submit reports to resume activities | 100 | 1 report | 100
417(b) | Conduct, and if required pay for, site-specific study to evaluate cause of harm or damage; and submit copies of study and results, in format specified | 110 | 1 study/submission | 110
|  |  | 1 study × $950,000 = $950,000.
437 | Provide information for reconsideration of BSEE decision to contract or cancel lease or grant area | Requirement not considered IC under 5 CFR 1320.3(h)(9). |  | 0
Subpart E—Reserved
Subpart F—Plans and Information Requirements
** indicate the primary cites for Site Assessment Plans (SAPs), Construction and Operations Plans (COPs), and General Activities Plans (GAPs); and the burdens include any previous or subsequent references throughout part 285 to submission and approval. This subpart contains references to other information submissions, approvals, requests, applications, plans, etc., the burdens for which are covered elsewhere in part 285.
** 606; 614; 810 | Within time specified after issuance of a competitive lease or grant, or within time specified after determination of no competitive interest, submit copies of SAP, including required information to assist BSEE to comply with NEPA/CZMA such as hazard info, air quality, SMS, and all required information, certifications, requests, etc., in format specified | 48 | 2 SAPs | 96
** 621; 632; 637; 810 | If requesting an operations term for commercial lease, within time specified before the end of site assessment term, submit copies of COP, or FERC license application, including required information to assist BSEE to comply with NEPA/CZMA such as hazard info, air quality, SMS, and all required information, surveys and/or their results, reports, certifications, project easements, supporting data and information, requests, etc., in format specified | 200 | 2 COPs | 400
** 641; 651; 810 | Within time specified after issuance of a competitive lease or grant, or within time specified after determination of no competitive interest, submit copies of GAP, including required information to assist BSEE to comply with NEPA/CZMA such as hazard info, air quality, SMS, and all required information, surveys and reports, certifications, project easements, requests, etc., in format specified | 48 | 2 GAPs | 96
** 632(c); 907 | Submit revised or modified COPs, including project easements, and all required additional information | 10 | 1 revised or modified COP | 10
602 | Until BSEE releases financial assurance, respondents must maintain, and provide to BSEE if requested, all data and information related to compliance with required terms and conditions of SAP, COP, or GAP.² | 2 | 9 records/submissions | 18
615; 800(b) | Submit annual, or at other time periods as BSEE determines, SAP compliance certification, effectiveness statement, recommendations, reports, supporting documentation, etc | 40 | 4 certifications | 160
633; 800(b) | Submit annual, or at other time periods as BOEM/BSEE determines, COP compliance certification, effectiveness statement, recommendations, reports, supporting documentation, etc | 45 | 9 certifications | 405
636(a) | Notify BSEE in writing no later than 30 days after commencing activities associated with placement of facilities on lease area | 1 | 2 notices | 2
636(b) | Notify BSEE in writing no later than 30 days after completion of construction and installation activities | 1 | 2 notices | 2
636(c) | Notify BSEE in writing at least 7 days before commencing commercial operations | 1 | 1 notice | 1
651 | Before beginning construction of OCS facility described in GAP, demonstrate operational SMS identified in GAP, submit initial findings | 27.5 | 2 notices | 55
653(a), (b); 800(b) | Submit annual, or at other time periods as BSEE determines, GAP compliance certification, recommendations, reports, etc | 40 | 4 certifications | 160
Subpart G—Facility Design, Fabrication, and Installation
*** indicate the primary cites for the reports discussed in this subpart, and the burdens include any previous or subsequent references throughout part 285 to submitting and obtaining approval. This subpart contains references to other information submissions, approvals, requests, applications, plans, etc., the burdens for which are covered elsewhere in part 285.
*** 700(a) (1), (c); 701 | Submit Facility Design Report, including copies of the cover letter, certification statement, and all required information (1-3 paper or electronic copies as specified) | 200 | 1 report | 200
*** 700(a)(2), (c); 702 | Submit Fabrication and Installation Report, including copies of the cover letter, certification statement, and all required information, in format specified | 160 | 1 report | 160
705(a); 707(a); 712 | Certified Verification Agent (CVA) conducts independent assessment of the facility design and submits copies of all reports/certifications to lessee or grant holder and BSEE—interim reports if required, in format specified | 100 100 | 1 interim report 1 final report | 100 100
705(a); 707(b); 708; 709; 710; 712; 637 | CVA conducts independent assessments/inspections on the fabrication and installation activities, informs lessee or grant holder if procedures are changed or design specifications are modified; and submits copies of all reports/certifications to lessee or grant holder and BSEE—interim reports if required, in format specified | 100 100 | 1 interim report 1 final report | 100 100
*** 703; 705(a); 712; 815 | CVA/project engineer monitors major project modifications and repairs and submits copies of all reports/certifications to lessee or grant holder and BSEE—interim reports if required, in format specified | 20 15 | 1 interim report 1 final report | 20 15
705(b), (c) | Request waiver of CVA requirement in writing; lessee must demonstrate standard design and best practices | 16 | 1 waiver | 16
706 | Submit for approval with SAP, COP, or GAP, initial nominations for a CVA or new replacement CVA nomination and required information | 6.5 | 2 nominations | 13
708(b)(2) | Notify BSEE if modifications identified by CVA/project engineer are accepted | 1 | 1 notice | 1
709(a); 710 | Make fabrication quality control, installation towing, and other records available to CVA/project engineer for review (retention required by § 285.714) | 1 | 3 records | 3
713 | Notify BSEE within 10 business days after commencing commercial operations | 1 | 1 notice | 1
714; 703(b) | Until BOEM releases financial assurance, compile, retain, and make available to BSEE and/or CVA the as-built drawings, design assumptions/analyses, summary of fabrication and installation examination records, inspection results, and records of repairs not covered in inspection report. Record original and relevant material test results of all primary structural materials; retain records during all stages of construction ² | 100 | 1 lessee | 100
Subpart H—Environmental and Safety Management, Inspections, and Facility Assessments for Activities Conducted Under SAPs, COPs, and GAPs
802(a); 902(e) | Notify BSEE of archaeological resource within 72 hours of discovery | 3 | 1 notice | 3
802(d) | If applicable, submit payment for BSEE costs in carrying out National Historic Preservation Act responsibilities | .5 | 1 payment | 1
810; 614(b); 632(b); 651 | Submit safety management system description with the SAP, COP, or GAP | 30 | 2 submissions | 60
813(b)(1) | Report within 24 hours when any required equipment taken out of service for more than 12 hours; provide written confirmation if reported orally | .5 1 | 2 reports 1 written confirmation | 1 1
813(b)(3) | Notify BSEE when equipment returned to service; provide written confirmation if reported orally | .5 | 2 notices | 1
815 | When required, analyze cable, P/L, or facility damage or failures to determine cause and as soon as available submit comprehensive written report | 1.5 | 1 report | 2
816 | Submit plan of corrective action report on observed detrimental effects on cable, P/L, or facility within 30 days of discovery; take remedial action and submit report of remedial action within 30 days after completion | 2 | 1 plan/report | 2
822 | Maintain records of design, construction, operation, maintenance, repairs, and investigation on or related to lease or ROW/RUE area; make available to BSEE for inspection ² | 1 | 4 records retention | 4
823 | Request reimbursement within 90 days for food, quarters, and transportation provided to BSEE reps during inspection | 2 | 1 request | 2
824(a) | Develop annual self-inspection plan covering all facilities; retain with records and make available to BSEE upon request | 24 | 2 plans | 48
824(b) | Conduct annual self-inspection and submit report by November 1 | 36 | 2 reports | 72
825 | Based on API RP 2A-WSD, perform assessment of structures, initiate mitigation actions for structures that do not pass assessment process, retain information, and make available to BSEE upon request. | 60 | 2 assessments/actions | 120
830(a), (c); 831 thru 833 | Immediately report incidents to BSEE via oral communications, submit written follow-up report within 15 business days after the incident, and submit any required additional information. | .5 Oral 4 Written | 2 incidents 1 incident | 1 4
830(d) | Report oil spills as required by BSEE 30 CFR part 254. | 2 | 1 report | 2
Subpart I—Decommissioning
**** indicate the primary cites for the reports discussed in this subpart, and the burdens include any previous or subsequent references throughout part 285 to submitting and obtaining approval. This subpart contains references to other information submissions, approvals, requests, applications, plans, etc., the burdens for which are covered elsewhere in parts 285.
**** 902; 905, 906; 907; 908(b), (c); 909; 638(a) | Submit for approval, in format specified, copies of the SAP, COP, or GAP decommissioning application and site clearance plan at least 2 years before decommissioning activities begin, 90 days after completion of activities, or 90 days after cancellation, relinquishment, or other termination of lease or grant. Include documentation of coordination efforts regarding requests that certain facilities remain in place for other activities, be converted to an artificial reef, or be toppled in place. Submit additional information/evidence requested or modify and resubmit application | 19 | 1 application | 19
902(d); 908(a) | Notify BSEE at least 60 days before commencing decommissioning activities | 1 | 1 notice | 1
910(b) | Within 60 days after removing a facility, verify to BSEE that site is cleared | 1 | 1 verification | 1
912 | Within 60 days after removing a facility, cable, or pipeline, submit a written report | 8 | 1 report | 8
BSEE does not anticipate decommissioning activities for at least 5 years, so the requirements have been given a minimal burden.
Total Burden | 103 Responses | 8,908 Hours.
| $1,908,000 Non-Hour Costs Burdens.

An agency may not conduct, or sponsor and a person is not required to respond to a collection of information unless it displays a currently valid OMB control number.

The authority for this action is the Paperwork Reduction Act of 1995 (44 U.S.C. 3501 et seq.).

Kirk Malstrom,
Chief, Regulations and Standards Branch.

[FR Doc. 2023-14812 Filed 7-12-23; 8:45 am]

BILLING CODE 4310-VH-P